NUCLEAR REGULATORY COMMISSION

[Docket No. 50-263]

Nuclear Management Company; Notice of Withdrawal of Application for Amendment to Facility Operating License

The U.S. Nuclear Regulatory Commission (the Commission) has granted the request of Nuclear Management Company, LLC (the licensee), to withdraw its March 31, 2008 (Agencywide Document Access and Management System Accession No. ML081010189) application, as supplemented by letters dated May 20, May 28, May 30, June 3, June 5, June 12, and June 25, 2008 (Accession Nos. ML081430494, ML081490639, ML081550504, ML081550640, ML081570467, ML081640435, and ML081770562) for proposed amendment to Renewed Facility Operating License No. DPR-22 for the Monticello Nuclear Generation Plant, located in Wright County, Minnesota.

The proposed amendment would have increased the current maximum thermal power level authorized by Section 2.C(1) of the renewed facility operating license from 1,775 megawatts to 1,870 megawatts.

The Commission had previously issued a Notice of Consideration of Issuance of Amendment published in the Federal Register on May 6, 2008 (73 FR 25042). However, by letter dated June 25, 2008 (ADAMS Accession No. ML081770562), the licensee withdrew the proposed change.

For further details with respect to this action, see the application for amendment dated March 31, 2008, as supplemented, and the licensee's letter dated June 25, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 18th day of July 2008.
For the Nuclear Regulatory Commission.
Peter S. Tam,
Senior Project Manager, Plant Licensing Branch III-1, Division of Operating Reactor Licensing, Office of Nuclear Reactor Regulation.

[FR Doc. E8-17110 Filed 7-24-08; 8:45 am]

BILLING CODE 7590-01-P